ENVIRONMENTAL PROTECTION AGENCY

[EPA-HQ-OPP-2015-0393; FRL-9965-44]

Interim Registration Review Decision for 22 Sulfonylurea Pesticides; Notice of Availability

AGENCY: Environmental Protection Agency (EPA).

ACTION: Notice.

SUMMARY: This notice announces the availability of EPA's interim registration review decision for the 22 sulfonylurea herbicide chemicals listed in the Table in Unit II of this Notice. It also announces the case closure for desmedipham (Case 2150 and Docket ID Number: EPA-HQ-OPP-2010-1044), Busan 1024 (case 5026 and Docket ID Number: EPA-HQ-OPP-2006-0243), Bis (trichloromethyl) sulfone (BTS) (Case 2055 and Docket ID Number: EPA-HQ-OPP-2011-0614), Perboric Acid (Case 5007 and Docket ID Number: EPA-HQ-OPP-2012-0006), and profenofos (Case 2540 and Docket ID Number: EPA-HQ-OPP-2008-0345) because all of the U.S. registrations for these pesticides have been canceled. Registration review is EPA's periodic review of pesticide registrations to ensure that each pesticide continues to satisfy the statutory standard for registration; that is, the pesticide can perform its intended function without causing unreasonable adverse effects on human health or the environment. Through this program, EPA is ensuring that each pesticide's registration is based on current scientific and other knowledge, including its effects on human health and the environment.

FOR FURTHER INFORMATION CONTACT: For pesticide specific information, contact: The Chemical Review Manager for the pesticide of interest identified in the table in Unit II of SUPPLEMENTARY INFORMATION.

For general information on the registration review program, contact: Dana Friedman, Pesticide Re-Evaluation Division (7508P), Office of Pesticide Programs, Environmental Protection Agency, 1200 Pennsylvania Ave. NW., Washington, DC 20460-0001; telephone number: (703) 347-8827; email address: friedman.dana@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT. For pesticide specific information, contact: The Chemical Review Manager for the pesticide of interest identified in the table in Unit II.

For general information on the registration review program, contact: Dana Friedman, Pesticide Re-Evaluation Division (7508P), Office of Pesticide Programs, Environmental Protection Agency, 1200 Pennsylvania Ave. NW., Washington, DC 20460-0001; telephone number: (703) 347-8827; email address: friedman.dana@epa.gov.

II. What action is the Agency taking?

Pursuant to 40 CFR 155.58(c), this notice announces the availability of EPA's interim registration review decision for the 22 sulfonylurea chemicals listed in the Table in Unit II. A single interim decision document covers all 22 chemicals and is being cross-posted in each of the public dockets identified in the Table in Unit II.

Pursuant to 40 CFR 155.57, a registration review decision is the Agency's determination whether a pesticide meets, or does not meet, the standard for registration in Federal Insecticide, Fungicide, and Rodenticide Act (FIFRA). EPA has considered the chemicals listed in the following Table in light of the FIFRA standard for registration. The interim registration review decisions are supported by rationales included in the docket established for each chemical.

In addition to the interim registration review decision document, the registration review docket for the chemicals listed in the Table also includes other relevant documents related to the registration review of these cases. The proposed interim registration review decision was posted to the docket and the public was invited to submit any comments or new information.

Table 1—Registration Review Interim Decisions Being Issued
Registration review case name and No. | Docket ID No. | Chemical review manager and contact information
Bensulfuron-methyl, 7216 | EPA-HQ-OPP-2011-0663 | Moana Appleyard, appleyard.moana@epa.gov, (703) 308-8175.
Chlorimuron-ethyl, 7403 | EPA-HQ-OPP-2010-0478 | Leigh Rimmer, rimmer.leigh@epa.gov, (703) 347-0553.
Chlorsulfuron, 0631 | EPA-HQ-OPP-2012-0878 | Miguel Zavala, zavala.miguel@epa.gov, (703) 347-0504.
Flazasulfuron, 7271 | EPA-HQ-OPP-2011-0994 | Ricardo Jones, jones.ricardo@epa.gov, (703) 347-0493.
Foramsulfuron, 7252 | EPA-HQ-OPP-2012-0387 | Christian Bongard, bongard.christian@epa.gov, (703) 347-0337.
Halosulfuron-methyl, 7233 | EPA-HQ-OPP-2011-0745 | Brittany Pruitt, pruitt.brittany@epa.gov, (703) 347-0289.
Imazosulfuron, 7281 | EPA-HQ-OPP-2015-0625 | Caitlin Newcamp, newcamp.caitlin@epa.gov, (703) 347-0325.
Iodosulfuron-methyl-sodium, 7253 | EPA-HQ-OPP-2012-0717 | Leigh Rimmer, rimmer.leigh@epa.gov, (703) 347-0553.
Mesosulfuron-methyl, 7277 | EPA-HQ-OPP-2012-0833 | Maria Piansay, piansay.maria@epa.gov, (303) 308-8063.
Metsulfuron-methyl, 7205 | EPA-HQ-OPP-2011-0375 | Brian Kettl, kettl.brian@epa.gov, (703) 347-0535.
Nicosulfuron, 7227 | EPA-HQ-OPP-2012-0372 | Nathan Sell, sell.nathan@epa.gov, (703) 347-8020.
Orthosulfamuron, 7270 | EPA-HQ-OPP-2011-0438 | Khue Nguyen, nguyen.khue@epa.gov, (703) 347-0248.
Primisulfuron-methyl, 7220 | EPA-HQ-OPP-2011-0844 | Christina Scheltema, scheltema.christina@epa.gov, (703) 308-2201.
Prosulfuron, 7235 | EPA-HQ-OPP-2011-1010 | Wilhelmena Livingston, livingston.wilhelmena@epa.gov, (703) 308-8025.
Rimsulfuron, 7218 | EPA-HQ-OPP-2012-0178 | Christian Bongard, bongard.christian@epa.gov, (703) 347-0337.
Sulfometuron-methyl, 3136 | EPA-HQ-OPP-2012-0433 | Caitlin Newcamp, newcamp.caitlin@epa.gov, (703) 347-0325.
Sulfosulfuron, 7247 | EPA-HQ-OPP-2011-0434 | Nicole Zinn, zinn.nicole@epa.gov, (703) 308-7076.
Thifensulfuron-methyl, 7206 | EPA-HQ-OPP-2011-0171 | Steven Snyderman, snyderman.steven@epa.gov, (703) 564-0370.
Triasulfuron, 7221 | EPA-HQ-OPP-2012-0115 | Margaret Hathaway, hathaway.margaret@epa.gov, (703) 305-5076.
Tribenuron-methyl, 7217 | EPA-HQ-OPP-2010-0626 | Linsey Walsh, walsh.linsey@epa.gov, (703) 347-8030.
Trifloxysulfuron-Sodium, 7260 | EPA-HQ-OPP-2013-0409 | Nicole Zinn, zinn.nicole@epa.gov, (703) 308-7076.
Triflusulfuron-methyl, 7236 | EPA-HQ-OPP-2012-0605 | Susan Bartow, bartow.susan@epa.gov, (703) 603-0065.

EPA addressed the comments or information received during the 60-day comment period for the proposed interim decisions in the discussion for each pesticide listed in the Table. Comments from the 60-day comment period that were received may or may not have affected the Agency's interim decision.

Pursuant to 40 CFR 155.58(c), the registration review case docket for the chemicals listed in the Table will remain open until all actions required in the interim decision have been completed.

Background on the registration review program is provided at: http://www.epa.gov/pesticide-reevaluation. Earlier documents related to the registration review of these pesticides are provided in the chemical specific dockets listed in the Table.

This document also announces the closure of the registration review case for Desmedipham (Case 2150 and Docket ID Number: EPA-HQ-OPP-2010-1044), Busan 1024 (case 5026 and Docket ID Number: EPA-HQ-OPP-2006-0243), Bis (trichloromethyl) sulfone (BTS) (Case 2055 and Docket ID Number: EPA-HQ-OPP-2011-0614), Perboric Acid (Case 5007 and Docket ID Number: EPA-HQ-OPP-2012-0006), and Profenofos (Case 2540 and Docket ID Number: EPA-HQ-OPP-2008-0345) because all of the U.S. registrations for these pesticides have been canceled.

Authority: 7 U.S.C. 136 et seq.

Dated: August 24, 2017.
Charles Smith,
Acting Director, Pesticide Re-Evaluation Division, Office of Pesticide Programs.

[FR Doc. 2017-19458 Filed 9-19-17; 8:45 am]

BILLING CODE 6560-50-P